NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995. This information collection notice is published to obtain comments from the public. This is related to NCUA's regulation on mergers of federally-insured credit unions and voluntary termination or conversion of insured status.

DATES: Comments will be accepted until September 27, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOMail@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is reinstating a previously approved collection of information for 12 CFR part 708b, Mergers of Federally Insured Credit Unions; Voluntary Termination or Conversion of Insured Status. The Federal Credit Union Act (Act) authorizes the NCUA Board to prescribe rules regarding mergers of federally-insured credit unions and changes in insured status and requires written approval of the Board before one or more federally-insured credit union(s) merge or before a federally-insured credit union terminates federal share insurance or converts to nonfederal share insurance. 12 U.S.C. 1752(7), 1766(a), 1785(b), 1785(c), and 1789(a). Part 708b of NCUA's Rules and Regulations sets forth the procedural and disclosure requirements for mergers of federally-insured credit unions, federal share insurance terminations, and conversions from federal share insurance to nonfederal (private) insurance. The rule is designed to ensure NCUA has sufficient information to determine whether to approve a proposed merger, share insurance termination, or share insurance conversion. It further ensures that members of credit unions have sufficient and accurate information to exercise their vote properly concerning a proposed merger, insurance termination, or insurance conversion. The rule also protects the property interests of members who may lose their federal share insurance due to a merger, share insurance termination, or share insurance conversion. 12 CFR part 708b.

The categories of burden for credit unions complying with part 708b may include the following:

Mergers

Each year, there are approximately 240 mergers involving federally-insured credit unions (both natural person and corporate credit unions). NCUA estimates it will take two merging credit unions approximately 35 hours between them to:

a. Prepare the required merger documents (§ 708b.103);

b. Collect and submit the required information to NCUA (§ 708b.104);

c. Provide the required insurance disclosures in other communications that the credit union plans to send to its members if the merger involves a share insurance conversion (§ 708b.206);

d. Notify members of the merger and send them the ballot (§§ 708b.106, 708b.303(a), 708b.303(b));

e. Notify NCUA of the results of the merger vote (§§ 708b.107, 708b.303(c));

f. Notify NCUA of the merger's completion (§ 708b.108); and

g. Notify members of the results of the merger and the possible effect on their insurance coverage (§ 708b.101(e)).

The 240 respondents (the two merging credit unions together treated as one respondent) times 35 hours per respondent equals 8,400 total annual burden hours associated with this collection of information.

Share Insurance Termination

Typically, no credit unions each year engage in share insurance terminations. If one or more credit unions were to engage in a voluntary termination of insurance in the future, NCUA estimates there will be minimal burden in the form of collections of information on those credit unions. NCUA estimates it will take each credit union approximately 12 hours to:

a. Prepare the required termination documents and submit the required information to NCUA (§ 708b.201);

b. Notify the members and send them the ballot (§ 708b.202);

c. Provide the required insurance disclosures in other communications that the credit union plans to send to its members (§ 708b.206);

d. Notify NCUA of the results of the termination vote (§ 708b.201(d)(2)); and

e. Provide members notice of termination of insurance (§ 708b.202(c)).

Zero respondents times 12 hours per respondent equals zero total annual burden hours associated with this collection of information.

Share Insurance Conversions

Approximately two credit unions each year engage in private share insurance conversions outside of the merger context. NCUA estimates there will be minimal burden in the form of collections of information, since NCUA provides forms and form language in the regulation. NCUA estimates that it will take each credit union approximately 12 hours to:

a. Prepare the required conversion documents and submit the required information to NCUA (§§ 708b.203, 708b.301(a));

b. Notify members of the conversion and send them the ballot (§§ 708b.204, 708b.301(b) and (c));

c. Provide the required insurance disclosures in other communications that the credit union plans to send to its members (§ 708b.206);

d. Notify NCUA of the results of the conversion vote (§ 708b.301(d)); and

e. Provide members notice of conversion of insurance (§ 708b.204(c)).

Two respondents times 12 hours per respondent equals 24 total annual burden hours associated with this collection of information.

The NCUA requests that you send your comments on this collection for Part 708b to the locations listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

OMB Number: 3133-0024.

Form Number: None.

Title: Mergers of Federally Insured Credit Unions; Voluntary Termination or Conversion of Insured Status, 12 CFR part 708b.

Type of Review: Reinstatement, with change, of a previously approved collection.

Description: Part 708b of NCUA's Rules and Regulations sets forth the procedural and disclosure requirements for mergers of federally-insured credit unions, federal share insurance terminations, and conversions from federal share insurance to nonfederal (private) insurance. Submission of this information is designed to ensure NCUA has sufficient information whether to approve a proposed merger, share insurance termination, or share insurance conversion. It further ensures that members of credit unions have sufficient and accurate information to exercise their vote properly concerning a proposed merger, insurance termination, or insurance conversion. The rule also protects the property interests of members who may lose their federal share insurance due to a merger, share insurance termination, or share insurance conversion.

Respondents: Federally-insured credit unions.

Estimated Number of Respondents: 242.

Frequency of Response: Once; on occasion.

Estimated Time per Response: Ranges from 12 to 35 hours.

Estimated Total Annual Burden Hours: 8,424 hours.

Estimated Total Annual Cost: $336,960.

By the National Credit Union Administration Board on August 22, 2013.
Gerard Poliquin,
Secretary of the Board.

[FR Doc. 2013-20943 Filed 8-27-13; 8:45 am]

BILLING CODE 7535-01-P